NATIONAL SCIENCE FOUNDATION

Agency Information Collection Activities: Comment Request: NSF Research Experience and Mentoring Survey

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function. Send comments to address below.

FOR FURTHER INFORMATION CONTACT: Suzanne H. Plimpton, Reports Clearance Officer, National Science Foundation, 2415 Eisenhower Avenue, Room E6447, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: NSF Research Experience and Mentoring Survey.

OMB Number: 3145-0261.

Type of Request: Intent to seek approval to renew an information collection.

Abstract:

The Research Experience and Mentoring (REM) Program supports the active involvement of research participants (RPs) that include high school students, Science, Technology, Engineering and Mathematics (STEM) teachers, undergraduate STEM students, faculty, and veterans, in hands-on research in order to bring participants into contact with STEM mentors and expose them to a summer research experience. Research participants are recruited as cohorts in order to facilitate mentoring and research activities, community building, and provide mutual student support. The main goals of the REM Program are to provide research experiences and mentored opportunities to STEM students and/or educators that may ultimately enhance their career and academic trajectories while enhancing NSF research projects by the Emerging Frontiers in Research and Innovation (EFRI) program, the Engineering Research Centers (ERC), and the Industry-University Cooperative Research Centers (IUCRC). The REM Program may also enable the building of long-term collaborative partnerships among EFRI-,ERC-, and ICUCR-supported researchers, community colleges, local four-year colleges, and local school districts.

A REM supplement of maximum of $110,000 over a 1-year period. Activities that are innovative and site-specific are encouraged. Effective REM programs typically have many of the following characteristics, which are provided here as general guidelines: mentorship training for researchers and affiliated graduate students or postdoctoral researchers; well-designed, introductory training for RPs; Six to ten weeks of summer research (full time); Continued mentorship of RPs throughout the academic year; Participation of RPs in research team meetings and topic-related conferences or workshops; and guidance for RPs in co-authoring publications and/or posters.

NSF is requesting OMB approval for the REM program to collect information from past and present research participants and mentors. The REM program seeks to collect data from research participants and mentors to: (1) inform REM programming (e.g., to identify areas of growth); and (2) conduct retrospective analysis of the REM program to assess the success of REM historically.

Use of the Information: The information collected is primarily for the use of the NSF REM program to assess the success of the program and for informing decisions NSF will make regarding future programming and support provided to research participants.

Estimate burden on the public: Estimated at 116 hours annually.

Respondents: All REM research participants and mentors will be invited to respond to the survey. The REM research participants include high school students, STEM teachers, undergraduate STEM students, faculty, and veterans.

Estimated number of respondents: 351.

Average Time per Reporting: The online survey is comprised primarily of closed-ended questions and is designed to be completed by respondents in under 20 minutes.

Frequency: Annually.

Dated: November 13, 2024.
Suzanne H. Plimpton,
Reports Clearance Officer, National Science Foundation.

[FR Doc. 2024-26829 Filed 11-15-24; 8:45 am]

BILLING CODE 7555-01-P